DEPARTMENT OF HEALTH AND HUMAN SERVICES

42 CFR Part 82

RIN 0920-ZA00

Methods for Radiation Dose Reconstruction Under the Energy Employees Occupational Illness Compensation Act of 2000

AGENCY: Department of Health and Human Services.

ACTION: Interim Final Rule; Reopening of Comment Period.

SUMMARY: The Department of Health and Human Services(DHHS), is reopening the comment period for the interim final rule for dose reconstruction for certain claims for cancer under the Energy Employees Occupational Illness Program Act (EEOICPA) that was published in the Federal Register of Friday, October 5, 2001. After considering these comments, comments previously received, and comments from the Advisory Board on Radiation and Worker Health (ABRWH) DHHS will publish a final rule.

DATES: Any public written comments not submitted at the meeting of the ABRWH must be received on or before Wednesday, January 23, 2002.

ABRWH must submit any comments and recommendations on the interim final rule to DHHS by Wednesday, February 6, 2002.

ADDRESSES: Submit written comments to: Attention—Dose Reconstruction Comments, Department of Health and Human Services, National Institute for Occupational Safety and Health (NIOSH), Robert A. Taft Laboratories, MS-C34, 4676 Columbia Parkway, Cincinnati, OH 45226, Telephone: (513) 533-8450, Fax: (513) 533-8285, e-mail: NIOCINDOCKET@CDC.GOV.

FOR FURTHER INFORMATION CONTACT: Larry Elliott, Director,Office of Compensation Analysis and Support, National Institute for Occupational Safety and Health, 4676 Columbia Parkway, Cincinnati, Ohio 45226, Telephone 513-841-4498(this is not a toll free number). Information requests may also be submitted by e-mail to OCAS@CDC.GOV.

SUPPLEMENTARY INFORMATION: On October 5, 2001, HHS published an interim final rule establishing methods for radiation dose reconstruction to be conducted for certain cancer claims filed under EEOICPA, Public Law 106-398 [See FR Vol. 66, No. 194, 50978]. The notice included a public comment period that ended on November 5, 2001. However, DHHS is requesting the ABRWH to conduct a review of its dose reconstruction methods. ABRWH will be conducting its review during a meeting of the ABRWH scheduled for Tuesday, January 22, 2002 and Wednesday, January 23, 2002.

To permit HHS to consider the ABRWH review and any comments and recommendations of ABRWH in the rulemaking, DHHS will reopen the public comment period. This will also provide the public with the opportunity to participate in this review. The public comment period will be reopened to include the ABRWH meeting transcript and any statements submitted for the record of that meeting in the docket for this rule. DHHS will also accept additional public written comments submitted to its docket office on or before Wednesday, January 23, 2002. The record for this rulemaking will close on Wednesday, February 6, 2002, by which time ABRWH must submit any comments and recommendations on the interim final rule to DHHS.

Dated: January 14, 2002.
Tommy G. Thompson,
Secretary.

[FR Doc. 02-1318 Filed 1-16-02; 8:45 am]

BILLING CODE 4160-17-P